DEPARTMENT OF COMMERCE

National Oceanic and Atmospheric Administration

RIN 0648-XB04

Endangered Species; File No. 1599

AGENCY: National Marine Fisheries Service (NMFS), National Oceanic and Atmospheric Administration (NOAA), Commerce.

ACTION: Issuance of permit.

SUMMARY: Notice is hereby given that Inwater Research Group, Inc. (Michael J. Bresette-Responsible Party), 4160 NE Hyline Dr, Jensen Beach, FL 34957 has been issued a permit to take green (Chelonia mydas), loggerhead (Caretta caretta), hawksbill (Eretmochelys imbricata), and Kemp's ridley (Lepidochelys kempii) sea turtles for purposes of scientific research.

ADDRESSES: The permit and related documents are available for review upon written request or by appointment in the following office(s):

Permits, Conservation and Education Division, Office of Protected Resources, NMFS, 1315 East-West Highway, Room 13705, Silver Spring, MD 20910; phone (301)713-2289; fax (301)427-2521; and

Southeast Region, NMFS, 263 13th Ave South, St. Petersburg, FL 33701; phone (727)824-5312; fax (727)824-5309.

FOR FURTHER INFORMATION CONTACT: Kate Swails or Patrick Opay, (301) 713-2289.

SUPPLEMENTARY INFORMATION: On March 21, 2007, notice was published in the Federal Register (72 FR 13250) that a request for a scientific research permit to take sea turtles had been submitted by the above-named organization. The requested permit has been issued under the authority of the Endangered Species Act of 1973, as amended (ESA; 16 U.S.C. 1531 et seq.) and the regulations governing the taking, importing, and exporting of endangered and threatened species (50 CFR parts 222-226).

The purpose of the proposed research is to continue long term monitoring of sea turtles foraging in the Key West National Wildlife Refuge and surrounding waters. The applicant will net or hand capture up to 90 green, 135 loggerhead, 15 hawksbill, and 5 Kemp's ridley sea turtles per year. The turtles will be measured, weighed, flipper and Passive Integrated Transponder tagged, blood and tissue sampled, marked with paint, and released. A subset of green turtles would be lavaged and satellite tagged. The permit is valid for five years.

Issuance of this permit, as required by the ESA, was based on a finding that such permit (1) was applied for in good faith, (2) will not operate to the disadvantage of such endangered or threatened species, and (3) is consistent with the purposes and policies set forth in section 2 of the ESA.

Dated: June 27, 2007.
P. Michael Payne,
Chief, Permits, Conservation and Education Division, Office of Protected Resources, National Marine Fisheries Service.

[FR Doc. E7-12871 Filed 7-2-07; 8:45 am]

BILLING CODE 3510-22-S